DEPARTMENT OF JUSTICE

Antitrust Division

Notice Pursuant to the National Cooperative Research and Production Act of 1993—Nanoparticle Benchmarking Research Project

Notice is hereby given that, on June 21, 2006, pursuant to Section 6(a) of the National Cooperative Research and Production Act of 1993, 15 U.S.C. 4301 et seq. (“the Act”), Nanoparticle Benchmarking Research Project (“Project”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties to the venture are: E.I. du Pont de Nemours and Company, Wilmington, DE; Procter & Gamble Company, West Chester, OH; The Dow Chemical Company, Midland, MI; Cabot Corporation, Boston, MA; Air Products and Chemicals Incorporated, Allentown, PA; Rohm & Haas Company, Spring House, PA; PPG Industries Incorporated, Pittsburgh, PA; Intel Corporation, Santa Clara, CA; Degussa Corporation, Parsippany, NJ; and United Kingdom Health & Safety Executive, London, UNITED KINGDOM. The general area of Project's planned activity is to undertake research and development in the areas of health, safety, and environmental considerations raised by the exposure of workers to airborne nanoparticles in the production of goods. Specifically, Project's objectives include: (1) Design and development of portable workplace monitoring instrumentation; and (2) development and testing of protective clothing fabrics as a barrier to an aerosol of nanoparticles. This work is being jointly funded by DuPont, and the other entites names above, as sponsors who are interested in nanoparticle research.

Dorothy B. Fountain,
Deputy Director of Operations, Antitrust Division.

[FR Doc. 06-6469 Filed 7-25-05; 8:45 am]

BILLING CODE 4410-11-M